ENVIRONMENTAL PROTECTION AGENCY

40 CFR Parts 51, 52, and 80

[OAR 2003-0079; FRL-8227-6]

RIN 2060-AJ99

Final Rule To Implement the 8-Hour Ozone National Ambient Air Quality Standard—Phase 2; Final Rule To Implement Certain Aspects of the 1990 Amendments Relating to New Source Review and Prevention of Significant Deterioration as They Apply in Carbon Monoxide, Particulate Matter and Ozone NAAQS; Final Rule for Reformulated Gasoline; Correction

AGENCY: Environmental Protection Agency (EPA).

ACTION: Final rule; correction.

SUMMARY: The EPA issued a final rule on November 29, 2005, which took action on elements of the program to implement the 8-hour ozone national ambient air quality standard (NAAQS or standard)—Phase 2. The preamble contains a discussion of the Clean Air Act's (CAA's) reasonable further progress (RFP) requirements, and this document clarifies the correct citation in the CAA that should have been referenced. Finally, this document is modifying several incorrect citations in Appendix A of the preamble which addresses calculation of RFP targets. This action is needed so States will have the correct version of the Phase 2 rule. The intended effect is to correct the errors in the Phase 2 rule.

EFFECTIVE DATE: This document is effective on October 4, 2006.

FOR FURTHER INFORMATION CONTACT: Ms. Denise Gerth, Office of Air Quality Planning and Standards, U.S. Environmental Protection Agency, Mail Code C539-01, Research Triangle Park, NC 27711, phone number (919) 541-5550, fax number (919) 541-0824 or by e-mail at gerth.denise@epa.gov. or Mr. John Silvasi, Office of Air Quality Planning and Standards, U.S. Environmental Protection Agency, Mail Code C539-01, Research Triangle Park, NC 27711, phone number (919) 541-5666, fax number (919) 541-0824 or by e-mail at silvasi.john@epa.gov.

SUPPLEMENTARY INFORMATION: The EPA issued the Phase 2 Rule to Implement the 8-Hour Ozone NAAQS on November 29, 2005 (70 FR 71612). The purpose of this document is to correct four technical errors in the final rule.

Section E.1.b. of the preamble (70 FR 71633; first column) provides information on the RFP requirements for areas classified under subpart 2 as serious and above that had met the 15-percent VOC emission reduction requirement for the 1-hour standard. The preamble stated that such areas would be subject to the RFP requirements of section 172(e) of the CAA. The reference to section 172(e) was inaccurate so we are issuing this correction notice to clarify that such areas would be subject to the RFP requirements of section 172(c) of the CAA. The regulatory text promulgated at 40 CFR 51.910(a)(1)(ii)(A) (70 FR 71700) correctly references section 172(c)(2).

The final set of corrections are being made to language in Method 2, Method 3 and Method 4 of Appendix A (70 FR 71696-71697) which addresses calculation of RFP targets.

The reference in Method 2 to areas covered under 40 CFR 51.910(a)(1)(ii)(C) is incorrect and the correct citation is 40 CFR 51.910(a)(1)(ii)(B). The following is the corrected language:

“For areas covered under 40 CFR 51.910(a)(1)(ii)(B) and that meet an 18-percent VOC emission reduction requirement by 2008 with NOX substitution allowed, following EPA's NOX Substitution Guidance:”.

The references in Method 3 in paragraphs E and F (71697, column 1) to Steps C, D and E are incorrect. The following is the corrected language:

(E) The target level of VOC and NOX emissions in 2011 needed to meet the 2011 ROP requirement is any combination of VOC and NOX reductions from the adjusted inventories calculated in Step D that total nine percent. For example, the target level of VOC emissions in 2011 could be a four-percent reduction from the adjusted VOC inventory in Step D and a five-percent reduction from the adjusted NOX inventory in Step D * * * [Emphasis Added].

(F) For subsequent * * *. This value is subtracted from the 2011 target level of NOX emissions calculated in Step E to get the adjusted NOX inventory to be used as the basis for calculating the target level of NOX emissions in 2014. [Emphasis Added].

The reference Method 4 in paragraph D (71697, second column) to Step E is incorrect. The following is the corrected language:

(D) The target level of VOC and NOX emissions in 2011 needed to meet the 2011 ROP requirement is any combination of VOC and NOX reductions from the adjusted inventories calculated in Step C that total nine percent * * * [Emphasis Added].

In addition, for all of Appendix A, the term “ROP” should read “RFP.” This is consistent with the definition of RFP in the Phase 1 rule (69 FR 23974, footnote 32).

List of Subjects

40 CFR Part 51

Environmental protection, Air pollution control, Carbon monoxide, Intergovernmental relations, Ozone, Particulate matter, Transportation, Volatile organic compounds.

40 CFR Part 52

Air pollution control, Carbon monoxide, Intergovernmental relations, Ozone, Particulate matter.

40 CFR Part 80

Fuel additives, Gasoline, Motor vehicle pollution, Ozone.

Authority: 42 U.S.C. 7408; 47 U.S.C. 7410; 42 U.S.C. 7501-7511; 42 U.S.C. 7601(a)(1); 42 U.S.C. 7401.

Dated: September 28, 2006.
Stephen L. Johnson,
Administrator.

[FR Doc. E6-16377 Filed 10-3-06; 8:45 am]

BILLING CODE 6560-50-P